ENVIRONMENTAL PROTECTION AGENCY

[FRL-7053-7]

Agency Information Collection Activities: Submission for OMB Review; Comment Request; National Survey on Environmental Management of Asthma

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Title: National Survey on Environmental Management of Asthma. The ICR describes the nature of the information collection and its expected burden and cost; where appropriate, it includes the actual data-collection instrument.

DATES: Comments must be submitted on or before October 11, 2001.

ADDRESSES: Send comments, referencing EPA ICR No. 1996.01 to the following addresses: Sandy Farmer, U.S. Environmental Protection Agency, Collection Strategies Division (Mail Code 2822), 1200 Pennsylvania Avenue, NW., Washington, DC 20460; and to the Office of Information and Regulatory Affairs, Office of Management and Budget (OMB), Attention: Desk Officer for EPA, 725 17th Street, NW., Washington, DC 20503.

FOR FURTHER INFORMATION CONTACT: For a copy of the ICR, contact Susan Auby at EPA by phone at (202) 260-4901, by E-Mail at Auby.susan@epamail.epa.gov or download off the internet at http://www.epa.gov/icr and refer to EPA ICR No. 1996.01. For technical questions about the ICR, contact Dr. Susan Conrath at EPA by phone at (202) 564-9389.

SUPPLEMENTARY INFORMATION: Title: National Survey on Environmental Management of Asthma, EPA ICR 1996.01.

Abstract: EPA is working to integrate the management of environmental factors with the medical treatment of asthma, particularly among children and low-income populations. To evaluate the effectiveness of its current outreach efforts, EPA proposes to collect data from individual U.S. households through a telephone survey. This survey will be used to gain information regarding the number of individuals with asthma who have taken steps to improve the quality of their indoor environment as part of their approach to managing the disease, as well as any barriers they may have encountered while attempting to do so. EPA will compare the data gained from this survey to the Agency's established Government Performance and Results Act of 1993 (GPRA) goal. Specifically, EPA's goal is that 2.5 million people with asthma, including one million children and 200,000 low-income adults, will have taken steps to reduce their exposure to indoor environmental asthma triggers by 2005.

EPA will conduct this survey in two phases. In the first phase, EPA will contact 52,591 people who will participate in a screening survey. These individuals will be chosen randomly from U.S. households with a publicly listed telephone number. EPA expects that 10 percent, or 5,259 individuals, will either have asthma or live in a household with someone who does. After responding to several screening questions, adult asthmatics and parents of children with asthma will be invited to participate in a longer, more in-depth telephone survey. In this second phase, EPA expects to obtain completed survey responses from 3,308 individuals. This sample size will allow the Agency to draw statistically valid conclusions regarding the number of people with asthma who are taking action to reduce their exposure to environmental triggers.

EPA intends to over sample in communities known to have a high percentage of low-income households to ensure that the Agency is able to evaluate the effectiveness of its outreach efforts to this target population.

The National Survey on Environmental Management of Asthma is voluntary. EPA does not expect to receive confidential information from the individuals voluntarily participating in the Survey. However, if a respondent does consider the information submitted to be of a proprietary nature, EPA will assure its confidentiality based on the provisions of 40 CFR Part 2, Subpart B, “Confidentiality of Business Information.”

An agency may not conduct or sponsor, and a person is not required to respond to, a collection of information unless it displays a currently valid OMB control number. The OMB control numbers for EPA's regulations are listed in 40 CFR Part 9 and 48 CFR Chapter 15. The Federal Register document required under 5 CFR 1320.8(d), soliciting comments on this collection of information was published on 04/17/01(FLR-6962-2); No comments were received.

Burden Statement

The annual public reporting and record-keeping burden for this collection of information is estimated to range from between 1.5 minutes and 16 minutes per response, depending on whether or not the survey respondent has asthma or lives with someone who has asthma. Burden means the total time, effort, or financial resources expended by persons to generate, maintain, retain, or disclose or provide information to or for a Federal agency. This includes the time needed to: review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: All individuals throughout the United States with publicly listed residential telephone numbers.

Estimated Number of Respondents: 52,591.

Frequency of Response: Once.

Estimated Total Annual Hour Burden: 726 hours.

Estimated Total Annualized Capital and O&M Cost Burden: $0.

Send comments on the Agency's need for this information, the accuracy of the provided burden estimates, and any suggested methods for minimizing respondent burden, including through the use of automated collection techniques, to the addresses listed above. Please refer to EPA ICR No. 1996.01 in any correspondence.

Dated: August 30, 2001.
Oscar Morales,
Director, Collection Strategies Division.

[FR Doc. 01-22747 Filed 9-10-01; 8:45 am]

BILLING CODE 6560-50-P